ENVIRONMENTAL PROTECTION AGENCY

[FRL-7170-3]

Agency Information Collection Activities: Continuing Collection; Comment Request; Used Oil Management Standards Recordkeeping and Reporting Requirements

AGENCY: Environmental Protection Agency (EPA).

ACTION: Notice.

SUMMARY: In compliance with the Paperwork Reduction Act (44 U.S.C. 3501 et seq.), this notice announces that EPA is planning to submit the following continuing Information Collection Request (ICR) to the Office of Management and Budget (OMB): Used Oil Management Standards Recordkeeping and Reporting Requirements, EPA ICR Number 1286, OMB Control Number 2050-0124, expires 6/30/2002. Before submitting the ICR to OMB for review and approval, EPA is soliciting comments on specific aspects of the proposed information collection as described below.

DATES: Comments must be submitted on or before June 11, 2002.

ADDRESSES: Commenters must send an original and two copies of their comments referencing docket number F-2002-UO2N-FFFFF to: RCRA Docket Information Center, Office of Solid Waste (5305G), U.S. Environmental Protection Agency Headquarters (EPA, HQ), Ariel Rios Building, 1200 Pennsylvania Avenue, NW, Washington, DC 20460-0002. Hand deliveries of comments should be made to the Arlington, VA address below. Comments may also be submitted electronically through the Internet to: http://www. rcra-docket@epa.gov. Comments in electronic format should also be identified by the docket number F-2002-UO2N-FFFFF. All electronic comments must be submitted as an ASCII file avoiding the use of special characters and any form of encryption.

Commenters should not submit any confidential business information (CBI) electronically. An original and two copies of CBI must be submitted under separate cover to: RCRA CBI Document Control Officer, Office of Solid Waste (5305W), U.S. EPA, Ariel Rios Building, 1200 Pennsylvania Avenue, NW, Washington, DC 20460-0002.

Public comments and supporting materials are available for viewing in the RCRA Information Center (RIC), located at Crystal Gateway I, First Floor, 1235 Jefferson Davis Highway, Arlington, VA. The RIC is open from 9 a.m. to 4 p.m., Monday through Friday, excluding federal holidays. To review docket materials, it is recommended that the public make an appointment by calling (703) 603-9230. The public may copy a maximum of 100 pages from any regulatory docket at no charge. Additional copies cost $0.15/page. This notice and the supporting document that details the Used Oil ICR are also available electronically. See the SUPPLEMENTARY INFORMATION section for information on accessing them.

FOR FURTHER INFORMATION CONTACT:

RCRA Hotline

For general information, contact the RCRA Hotline at (800) 424-9346 or TDD (800) 553-7672 (hearing impaired). In the Washington, DC, metropolitan area, call (703) 412-9810 or TDD (703) 412-3323.

Used Oil ICR Details

For more detailed information on specific aspects of the used oil information collect requests, contact Mike Svizzero by mail at Office of Solid Waste (5303W), U.S. Environmental Protection Agency, 1200 Pennsylvania Avenue, NW, Washington, DC 20460, by phone at (703) 308-0046, or by Internet e-mail at svizzero.michael@epa.gov.

SUPPLEMENTARY INFORMATION:

Internet Availability

Today's notice and the supporting document that details the Used Oil ICR are available on the Internet at: http://www.epa.gov/epaoswer/hazwaste/usedoil/index.htm.

Note: The official record for this action will be kept in paper form and maintained at the address in the ADDRESSES section above.

Used Oil ICR Renewal

Affected entities: Entities potentially affected by this action are those which handle or manage used oil including used oil transporters, transfer facilities, processors, re-refiners, and off-specification burners.

Title: Used Oil Management Standards Recordkeeping and Reporting Requirements (OMB Control No. 2050-0124; EPA ICR No. 1286) expiring 06/30/2002.

Abstract: EPA is seeking public comment on the Used Oil Management Standards Recordkeeping and Reporting Requirements ICR (Used Oil ICR) prior to submitting it to OMB for renewal. The Used Oil Management Standards, which include information collection requests, were developed in accordance with Section 3014 of the Resource Conservation and Recovery Act (RCRA), as amended by the Hazardous and Solid Waste Amendments of 1984 (HSWA), which directs EPA to “promulgate regulations * * * as may be necessary to protect public health and the environment from the hazards associated with recycled oil” and, at the same time, to not discourage used oil recycling. In 1985 and 1992, EPA established mandatory regulations that govern the management of used oil (see 40 CFR part 279). To document and ensure proper handling of used oil, these regulations establish notification, testing, tracking and recordkeeping requirements for used oil transporters, processors, re-refiners, marketers, and burners. They also set standards for the prevention and cleanup of releases to the environment during storage and transit, and for the safe closure of storage units and processing and re-refining facilities to mitigate future releases and damages. EPA believes these requirements minimize potential hazards to human health and the environment from the potential mismanagement of used oil by used oil handlers, while providing for the safe recycling of used oil. Information from these information collection requirements is used to ensure compliance with the Used Oil Management Standards.

An agency may not conduct or sponsor, and a person is not required to respond to, a collection of information unless it displays a currently valid OMB control number. The OMB control numbers for EPA's regulations are listed in 40 CFR part 9 and 48 CFR chapter 15.

EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement

The total information collection burden to the regulated community for complying with part 279 is approximately 460,286 hours per year, which represents an annual cost of $10,011,301. The ICR burden and cost for each category of used oil handler is detailed in the ICR supporting document available free of cost from the RCRA Information Center.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: March 18, 2002.
Matthew Hale,
Acting Director, Office of Solid Waste.

[FR Doc. 02-8953 Filed 4-11-02; 8:45 am]

BILLING CODE 6560-50-P